COMMITTEE FOR PURCHASE FROM PEOPLE WHO ARE BLIND OR SEVERELY DISABLED

Procurement List; Proposed Deletions

AGENCY: Committee for Purchase From People Who Are Blind or Severely Disabled.

ACTION: Proposed Deletions from the Procurement List.

SUMMARY: The Committee is proposing to delete product and a service from the Procurement List that were furnished by nonprofit agencies employing persons who are blind or have other severe disabilities.

DATES: Comments must be received on or before: February 23, 2020.

ADDRESSES: Committee for Purchase From People Who Are Blind or Severely Disabled, 1401 S Clark Street, Suite 715, Arlington, Virginia, 22202-4149.

FOR FURTHER INFORMATION CONTACT: For further information or to submit comments contact: Michael R. Jurkowski, Telephone: (703) 603-2117, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Deletions

The following products and a service are proposed for deletion from the Procurement List:

Products

NSNs—Product Names:

8125-00-NIB-0041—Spray Bottle, BioRenewables Restroom Cleaner, Silk Screened, 8 oz, 12/BX

8125-00-NIB-0024—Tribase multi purpose silk screened 8oz bottle, 12/BX

8125-00-NIB-0025—Glass cleaner silk screened 8oz bottle, 12/BX

8125-00-NIB-0026—Neutral Disinfectant silk screened 8oz bottle, 12/BX

8125-00-NIB-0027—Industrial cleaner silk screened 8oz bottle, 12/BX

Mandatory Source of Supply: VisionCorps, Lancaster, PA

Contracting Activity: Central Office, Washington, DC

Service

Service Type: Janitorial/Custodial

Mandatory for: Veterans Administration Medical Center: 2600 M. L. King, Jr. Parkway, Des Moines, IA

Mandatory Source of Supply: Goodwill Solutions, Inc., Johnston, IA

Contracting Activity: Veterans Affairs, Department of, NAC

Patricia Briscoe,
Deputy Director, Business Operations (Pricing and Information Management).

[FR Doc. 2020-01161 Filed 1-23-20; 8:45 am]

BILLING CODE 6353-01-P